NUCLEAR REGULATORY COMMISSION

[NRC-2015-0251]

Supplementary Guidance Documents for Subsequent License Renewal

AGENCY: Nuclear Regulatory Commission.

ACTION: NUREG; issuance.

SUMMARY: The U.S. Nuclear Regulatory Commission (NRC) is issuing final NUREG-2221, “Technical Bases for Changes in the Subsequent License Renewal Guidance Documents NUREG-2191 and NUREG-2192,” and NUREG-2222, “Disposition of Public Comments on the Draft Subsequent License Renewal Guidance Documents NUREG-2191 and NUREG-2192.” These two documents describe the technical changes that were made to the guidance documents for initial license renewal, NUREG-1801, Revision 2, “Generic Aging Lessons Learned (GALL) Report,” and NUREG-1800, Revision 2, “Standard Review Plan for Review of License Renewal Applications for Nuclear Power Plants,” for utilities wishing to apply for subsequent license renewal (i.e., for operation from 60 to 80 years) along with the technical bases for these changes and the NRC staff's response to public comments received on the drafts of NUREG-2191 and NUREG-2192.

DATES: April 13, 2018.

ADDRESSES: Please refer to Docket ID NRC-2015-0251 when contacting the NRC about the availability of information regarding these documents. You may obtain publicly-available information related to these documents using any of the following methods:

• Federal Rulemaking website: Go to http://www.regulations.gov and search for Docket ID NRC-2015-0251. Address questions about NRC dockets to Jennifer Borges; telephone: 301-287-9127; email: Jennifer.Borges@nrc.gov. For technical questions, contact the individual(s) listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. NUREG-2221, “Technical Bases for Changes in the Subsequent License Renewal Guidance Documents NUREG-2191 and NUREG-2192,” and NUREG-2222, “Disposition of Public Comments on the Draft Subsequent License Renewal Guidance Documents NUREG-2191 and NUREG-2192” are available in ADAMS under Accession No(s): ML17362A126, and ML17362A143, respectively.

• NRC's PDR: You may examine and purchase copies of public documents at the NRC's PDR, Room O1-F21, One White Flint North, 11555 Rockville Pike, Rockville, Maryland 20852.

FOR FURTHER INFORMATION CONTACT: Bennett Brady, telephone: 301-415-2981, email: Bennett.Brady@nrc.gov or Eric Oesterle, telephone: 301-415-1014, email: Eric.Oesterle@nrc.gov; both are in the Office of Nuclear Reactor Regulation, U.S. Nuclear Regulatory Commission, Washington DC 20555-0001.

SUPPLEMENTARY INFORMATION: The Atomic Energy Act (AEA) of 1954, as amended, authorizes the NRC to issue 40-year initial licenses and upon application and approval, subsequently renew licenses for nuclear power reactors. The NRC's regulations permit these licenses to be renewed beyond the initial 40-year term for an additional period of time, up to 20 years, based on the outcome of an assessment to determine if the nuclear facility can continue to operate safely during the proposed period of extended operation. There are no limitations in the AEA or the NRC's regulations restricting the number of times a license may be renewed.

The nuclear power industry has sent letters of intent to apply for subsequent license renewals in 2018, 2019, and 2020. Subsequent License Renewal is a term referring to all license renewals allowing a plant to operate beyond the 60-year period (40-year period of an initial operating license and a 20-year period of the first license renewal). Based on a survey conducted by the nuclear power industry, the NRC staff believes that additional applications for subsequent license renewal will be submitted in future years.

The NRC has developed and published final guidance for licensees that intend to apply for subsequent license renewal. The guidance documents for subsequent license renewal (i.e., for operation from 60 to 80 years), NUREG-2191, the “Generic Aging Lessons Learned for Subsequent License Renewal (GALL-SLR) Report,” and NUREG-2192, the “Standard Review Plan for Review of Subsequent License Renewal Applications for Nuclear Power Plants” (SRP-SLR), address the issues for increased operating time from 60 to 80 years. The guidance also considers recent operating experience identified since the release of GALL Report, Rev. 2. The GALL-SLR Report and SRP-SLR also include changes that have been previously issued for public comment as part of the staff's license renewal Interim Staff Guidance (ISG) process. These ISGs can be found at http://www.nrc.gov/reading-rm/doc-collections/isg/license-renewal.html. These ISGs (ML12286A275, ML11297A085, ML12138A296, ML12270A436, ML12044A215, ML12352A057, ML13227A361, ML15308A018, and ML16237A383) have been incorporated into the GALL-SLR Report and the associated sections of the SRP-SLR. The NRC has previously received public comments on these ISGs, and is not requesting additional comments on the ISGs.

A notice of availability and request for comments on draft NUREG-2191 and draft NUREG-2192 was published in the Federal Register on December 23, 2015 (80 FR 79956). The public comment period ended on February 29, 2016. The NRC received over 500 comments on these draft guidance documents. The NRC also published a supplement to the draft guidance documents in the Federal Register on March 29, 2016 (81 FR 17500). The public comment period on the supplements to draft NUREG-2191 and draft NUREG-2192 ended May 31, 2016. The NRC reviewed and dispositioned all of the comments and published the disposition of the comments and the technical bases for their disposition in companion NUREG documents, which are being published at this time, NUREG-2221, “Technical Bases for Changes in the Subsequent License Renewal Guidance Documents NUREG-2191 and NUREG-2192,” and NUREG-2222, “Disposition of Public Comments on the Draft Subsequent License Renewal Guidance Documents NUREG-2191 and NUREG-2192.” The NRC's resolution of these comments are incorporated in the final SLR guidance documents, NUREG-2191 and NUREG-2192.

Dated at Rockville, Maryland, this 10th day of April 2018.
For the Nuclear Regulatory Commission.
Eric R. Oesterle,
Chief, License Renewal Project Branch, Division of Materials and License Renewal, Office of Nuclear Reactor Regulation.

[FR Doc. 2018-07698 Filed 4-12-18; 8:45 am]

BILLING CODE 7590-01-P